Title 3—

The President

Proclamation 10188 of April 27, 2021

Workers Memorial Day, 2021

By the President of the United States of America

A Proclamation

America's workers are the backbone of our economy. In every State, territory, and Tribal land, they leave their homes and families and head to work—applying their grit and skill to create, serve, and service all those things that make our world turn. Even during our Nation's most difficult periods, American workers have always persevered, ensuring that our communities remain resilient and that our Nation stands ready to confront the unforeseen challenges of each new generation. Though workers make tremendous sacrifices—especially essential workers who selflessly serve their communities during times of crisis—none of them should have to risk injury, illness, or death in order to provide for themselves and their families. Tragically, thousands of workers are killed and millions more are hurt or fall ill every year in the workplace—incidents that are often preventable. On the 50th anniversary of the Occupational Safety and Health Act of 1970, we reflect on the workers who have tragically lost their lives or have been harmed in the workplace, and we reaffirm our commitment to ensuring that every American worker has a safe and healthy work environment.

Over the past century, labor unions have fought hard—very often successfully—to draw attention to unsafe workplace environments and organize for safer work conditions and protections from the Federal Government. In 1935, the National Labor Relations Act codified private-sector workers' right to organize, collectively bargain, and strike. Decades later, the passage of the Federal Coal Mine Health and Safety Act in 1969 and the Occupational Safety and Health Act in 1970 enshrined a promise that the wanton indifference to workers' lives—the days of the Triangle Shirtwaist Factory fire and the Farmington Mine explosion—would no longer be tolerated. Establishing and enforcing Federal workplace safety and health standards has undoubtedly saved lives.

Despite the progress we have made cementing workplace protections into law, many workers still fear retaliation and retribution from management when they are asked to perform unsafe tasks or work in unsanitary conditions. This fear forces many workers to remain silent, putting their lives and the lives of their colleagues at risk. Alone, a single worker is often at the mercy of their boss, with little chance of rectifying an unsafe working environment created by employers who cut corners in the name of profit. United, and protected by law from intimidation and coercion from their employers, workers can collectively demand improved working conditions.

In an economic system that puts too much power in the hands of wealthy corporations and Wall Street, unions give workers a way to band together, wield their full power, and stand on equal footing with management. Unions not only protect the physical wellbeing of workers, but they also protect their financial security; they protect workers' equity, too, helping ensure that workplaces are free from harassment and discrimination. Over the past half century, we have seen the percentage of American workers represented by unions decline dramatically. It is no surprise that during this same period, the average incomes of the bottom 90 percent of households in America have only risen by about 1 percent. The decades-long assault we've seen on union organizing is a direct assault on the health and incomes of American workers.

My Administration is committed to protecting the lives, rights, and livelihoods of workers and reducing workplace accidents, injuries, and fatalities. That is why I strongly encourage the Congress to pass the Protecting the Right to Organize (PRO) Act of 2021—and why I included the PRO Act as part of my American Jobs Plan. The decision to form a union should belong to workers alone—free from coercion, interference, or intimidation—and this important legislation would empower workers to exercise their right to organize, hold management accountable for violating the rights of their workers, and promote union elections that are free from interference from employers.

It is clear that we have not completely fulfilled our obligation to protect our Nation's workers. We must always remain vigilant against the notion that worker endangerment is simply a necessary cost of doing business. And we must always protect the right of workers to unite and bargain for their own mutual aid or protection.

Today, we mourn each treasured life taken away on the job. Those stricken by disease and fatal injuries as they keep America running deserve a dedicated day of grateful prayer and remembrance from the living. Workers Memorial Day impels us to work for a future where no one should have to risk their life for a paycheck. When our Nation fully recovers from the challenges we face today, it will be in large part because of the sacrifice and perseverance of our workers. We commit to holding close their memory and investing in the health and safety of the colleagues they have left behind.

NOW, THEREFORE, I, JOSEPH R. BIDEN JR., President of the United States of America, by virtue of the authority vested in me by the Constitution and the laws of the United States, do hereby proclaim April 28, 2021, as Workers Memorial Day. I call upon all Americans to observe this day with appropriate service, community, and education programs and ceremonies in memory of those killed or injured due to unsafe working conditions.

IN WITNESS WHEREOF, I have hereunto set my hand this twenty-seventh day of April, in the year of our Lord two thousand twenty-one, and of the Independence of the United States of America the two hundred and forty-fifth.

[FR Doc. 2021-09262

Filed 4-29-21; 8:45 am]

Billing code 3295-F1-P